DEPARTMENT OF LABOR

Employment and Training Administration

[TA-W-58,022]

Meadow River Hardwood Lumber Company; Formerly Known as Georgia-Pacific Corp.; Rainelle, WV; Notice of Negative Determination Regarding Application for Reconsideration

By application of December 8, 2005, Carpenters East Coast Industrial Council (CECIC) requested administrative reconsideration of the Department's negative determination regarding eligibility to apply for Trade Adjustment Assistance (TAA), applicable to workers and former workers of the subject firm. The denial notice was signed on October 24, 2005, and published in the Federal Register on November 16, 2005 (70 FR 69599).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Meadow River Hardwood Lumber Company, f/k/a Georgia-Pacific Corp., Rainelle, West Virginia engaged in production of hardwood lumber was denied because the “contributed importantly” group eligibility requirement of Section 222 of the Trade Act of 1974, as amended, was not met, nor was there a shift in production from that firm to a foreign country. The investigation revealed that workers separations at the subject firm was attributed to an employee-strike and not increased imports or a shift in production to a foreign country.

The petitioner stated that there was no stoppage of work due to a labor dispute, but rather the company was loosing its sales due to increased imports. The petitioner attached a list of customers and requested a customer survey be conducted in order to reveal the import impact.

Upon further review of the previous investigation and further contact with the company official the Department conducted a full investigation to determine whether imports of hardwood lumber indeed impacted production at the subject firm and consequently caused workers separations.

The investigation revealed that customers provided by the petitioner were former customers of Georgia-Pacific Corp., but were no longer customers of Meadow River Hardwood Lumber Company.

The company official provided a list of major customers of the subject firm. The Department conducted a survey of these customers regarding their purchases of hardwood lumber during the relevant time period. The survey revealed that only one customer is importing hardwood lumber, however this customer did not decrease its purchases of hardwood lumber from the subject firm. Moreover, the subject firm does not import hardwood lumber and did not shift production of hardwood lumber abroad.

Conclusion

After review of the application and investigative findings, I conclude that there has been no error or misinterpretation of the law or of the facts which would justify reconsideration of the Department of Labor's prior decision. Accordingly, the application is denied.

Signed at Washington, DC, this 24th day of January, 2006.
Elliott S. Kushner,
Certifying Officer, Division of Trade Adjustment Assistance.

[FR Doc. E6-1103 Filed 1-30-06; 8:45 am]

BILLING CODE 4510-30-P